DEPARTMENT OF TRANSPORTATION

Federal Aviation Administration

14 CFR Part 71

[Docket No. FAA-2009-0128; Airspace Docket No. 08-ASW-15]

RIN 2120-AA66

Amendment of Federal Airways V-163 and V-358 in the Lampasas, TX, Area

AGENCY: Federal Aviation Administration (FAA), DOT.

ACTION: Final rule.

SUMMARY: This action amends the legal descriptions of two Federal airways that have “Lampasas, TX, very high frequency omnidirectional range/tactical air navigation (VORTAC)” included as part of their route structure. Currently, the Lampasas VORTAC and the Lampasas Airport share the same location name and identifier (LZZ). To eliminate confusion and potential flight safety issues, the “Lampasas VORTAC” (LZZ) will be renamed the “Gooch Springs VORTAC” (AGJ). All airways with Lampasas [VORTAC] included in their legal descriptions will be amended, concurrent with the effective date of this final rule, to reflect the name change.

DATES: Effective Date: 0901 UTC, December 17, 2009. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

The Rule

This action amends Title 14 Code of Federal Regulations (14 CFR) part 71 by amending the legal descriptions of two Federal airways, V-163 and V-358, that have Lampasas, TX, [VORTAC] included as part of their route structure. Currently, the Lampasas, TX, VORTAC and the Lampasas Airport, Lampasas, TX, share the same name and location identifier (LZZ), but are not co-located. To eliminate the possibility of confusion, and a potential flight safety issue, the Lampasas, TX, VORTAC will be renamed the Gooch Springs, TX, VORTAC (AGJ). All airways with Lampasas, TX, [VORTAC] included in their legal descriptions will be amended to reflect the name change. The name change of the VORTAC will coincide with the effective date of this rulemaking action.

Since this action merely involves editorial changes in the legal description of two Federal airways, and does not involve a change in the dimensions or operating requirements of that airspace, notice and public comment under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it revises the legal descriptions of Federal airways in the vicinity of Lampasas, TX.

Domestic VOR Federal airways are published in paragraph 6010(a) of FAA Order 7400.9T, signed August 27, 2009, and effective September 15, 2009, which is incorporated by reference in 14 CFR 71.1. The domestic Federal VOR airways listed in this document will be published subsequently in the Order.

Environmental Review

There are no changes to the lateral limits. Therefore, the FAA has determined that this action is not subject to environmental assessments and procedures in accordance with FAA Order 1050.1E, Policies and Procedures for Considering Environmental Impacts, and the National Environmental Policy Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009, is amended as follows:

Paragraph 6010(a) Domestic VOR Federal Airways

* * * * *

V-163 [Amended]

From Matamoros, Mexico; via Brownsville, TX; 27 miles standard width, 37 miles 7 miles wide (3 miles E. and 4 miles W. of centerline); Corpus Christi, TX; Three Rivers, TX; INT Three Rivers 345° and San Antonio, TX, 168° radials; San Antonio; Gooch Springs, TX; to Glen Rose, TX.

* * * * *

V-358 [Amended]

From San Antonio, TX, via Stonewall, TX; Gooch Springs, TX; INT Gooch Springs 041° and Waco, TX, 280° radials; Waco; Glen Rose, TX; Millsap, TX; Bowie, TX; Ardmore, OK; INT Ardmore 327° and Will Rogers, OK, 195° radials; to Will Rogers.

* * * * *

Issued in Washington, DC, on October 6, 2009.
Edith V. Parish,
Manager, Airspace and Rules Group.

[FR Doc. E9-24662 Filed 10-23-09; 8:45 am]

BILLING CODE 4910-13-P